DEPARTMENT OF EDUCATION

Membership of the Performance Review Board

AGENCY: Office of Management, Department of Education.

ACTION: Notice.

SUMMARY: The Secretary publishes a list of persons who may be named to serve on the Performance Review Board that oversees the evaluation of performance appraisals for Senior Executive Service members of the Department.

DATES: September 21, 2018.

SUPPLEMENTARY INFORMATION:

Membership

Under the Civil Service Reform Act of 1978, Public Law 95-454 (5 U.S.C. 4314(c)(4), we must publish in the Federal Register a list of persons who may be named to serve on the Performance Review Board that oversees the evaluation of performance appraisals for Senior Executive Service members of the Department. The following persons may be named to serve on the Performance Review Board:

ANDERSON, MARGO K.

ASHLEY, CAROL

BAILEY, NATHAN

BATTLE, SANDRA G.

BETKA, SUE E.

BILLUPS, ANGELA

BOTEL, JASON

BYRD-JOHNSON, LINDA

CARR, PEGGY G.

CARTER, DENISE L.

FORTELNY, GREGORY

GOODRIDGE-KEILLER, MARCELLA

GRAY, JASON

GREEN, BIANCA

HAIRFIELD, JAMES M.

HALL, LINDA W.

HAYNES, LEONARD

HERNANDEZ, STEVEN

HILL, ALLEN

JACKSON, CANDICE

JONES, DIANE

KARVONIDES, MARIA

KEAN, LARRY G.

KIM, ANN

KISSEL, ADAM

KOEPPEL, DENNIS P.

LEE, EBONY

LUCAS, RICHARD J.

MAESTRI, PHILIP A.

MAHAFFIE, LYNN B.

MALAWER, HILARY

MANNING, JAMES

MCDONALD, WALTER

MCFADDEN, ELIZABETH A.

MCLAUGHLIN, MAUREEN A.

MILLER, DANIEL

CHANG, LISA

CHAPMAN, CHRISTOPHER

CHAVEZ, ANTHONY

CONATY, JOSEPH C.

CORDES, WILLIAM

DOONE, ALISON

EITEL, ROBERT

ELIADIS, PAMELA

ELLIS, KATHRYN

FEELY, HARRY

METHFESSEL, HARLEY

RAMIREZ, LISA

RICHEY, KIMBERLY

RIDDLE, PAUL N.

RIEMER, JEFFREY

ROSENFELT, PHILIP H.

RYDER, RUTH E.

SANTY, ROSS JR.

SASSER, TRACEY L.

SIMMONS, LEE-DOUGLASS

SIMPSON, DANIEL

STADER, JAMES

STANTON, CRAIG

ST. PIERRE, TRACEY

STYLES, KATHLEEN M.

TALBERT, KENT

THOMAS, MILTON L. JR.

VENABLE, JOSHUA

VIANA, JOSE

WASHINGTON, MARK

WILBANKS, LINDA R.

WILLS, RANDOLPH E.

WOOD, GARY H.

WOOTEN, MICHAEL

SCOTT, JANET

FOR FURTHER INFORMATION CONTACT: Valarie Barclay, Director, Executive Resources Division, Office of Human Resources, Office of Management, U.S. Department of Education, 400 Maryland Avenue SW, Room 2C150, LBJ, Washington, DC 20202-4573. Telephone: (202) 453-5918.

If you use a telecommunications device for the deaf (TDD), or text telephone (TTY), you may call the Federal Relay Service (FRS) at 1-800-877-8339.

Accessible Format: Individuals with disabilities may obtain this document in an alternative format (e.g., braille, large print, audiotape, or compact disc) on request to the contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: September 18, 2018.
Betsy DeVos,
Secretary of Education.

[FR Doc. 2018-20584 Filed 9-20-18; 8:45 am]

BILLING CODE 4000-01-P